OFFICE OF NATIONAL DRUG CONTROL POLICY

Paperwork Reduction Act; Notice of Intent to Collect; Comment Request

AGENCY: Office of National Drug Control Policy (ONDCP).

ACTION: ONDCP provides opportunity for public comment concerning the collection of information for its 25 Cities initiative.

SUMMARY: This action proposes a continuation of ONDCP's collection of drug control information from Federal, State, and local governments.

SUPPLEMENTARY INFORMATION:

I. Background

ONDCP previously collected information to establish a baseline of Federal, State, and local drug control funding levels in the 25 largest metropolitan areas. The proposed continuation of this data collection will help ONDCP measure spending level changes, coordinate services, and develop National Drug Control Strategies.

The 25 Cities project identifies in each affected city significant movements in key drug use measures, and encourages city administrators to use proven programs that increase efficiencies and effectiveness; promote coordination and collaboration; develop commitments; and, gather accurate performance measurement data. Detailed information regarding the project is available at www.whitehousedrugpolicy.gov.

Type of Collection: Reinstatement with change of an approved data collection that expired.

Title of Information Collection: Survey of drug treatment, drug use prevention, and law enforcement resources available to cities identified in ONDCP's 25 Cities project.

Frequency: Annually by fiscal year.

Affected Public: Instrumentalities of State, local, and tribal governments.

Estimated Burden: Minimal since providers maintain the data for other purposes.

II. Special Issues for Comment

ONDCP especially invites comments on: (a) Whether the proposed collection is necessary for the proper performance of ONDCP functions, including whether the information has practical utility; (b) ways to enhance information quality, utility, and clarity; and (c) ways to ease the burden on respondents, including the use of automated collection techniques or other forms of information technology.

ADDRESSES: Address all comments in writing within 60 days to Terry Zobeck, Deputy Associate Director, Office of Planning and Budget. Facsimile and email are the more reliable means of communication. Mr. Zobeck's facsimile number is (202) 395-6729, and his email address is tzobeck@ondcp.eop.gov. Mailing address is Executive Office of the President, Office of National Drug Control Policy, Washington, DC 20503. For further information, contact Mr. Zobeck at (202) 395-5503.

Signed in Washington, DC on March 19, 2004.
Daniel R. Petersen,
Assistant General Counsel.

[FR Doc. 04-6655 Filed 3-24-04; 8:45 am]

BILLING CODE 3180-02-P